DEPARTMENT OF ENERGY

Federal Energy Regulatory Commission

[Project No. 12758-007]

BOST5 Hydroelectric LLC; Notice of Effectiveness of Withdrawal of Application for Amendment of License

On February 9, 2021, BOST5 Hydroelectric LLC (BOST5) filed an application to amend the license for the Red River Lock and Dam No. 5 Hydroelectric Project. On September 20, 2021, BOST5 filed a notice of withdrawal of its application for amendment of license.

No motion in opposition to the notice of withdrawal has been filed, and the Commission has taken no action to disallow the withdrawal. Pursuant to Rule 216(b) of the Commission's Rules of Practice and Procedure,¹ the withdrawal of the amendment application became effective on October 6, 2021, and this proceeding is hereby terminated.

¹ 18 CFR 385.216(b) (2020).

Dated: October 15, 2021.
Kimberly D. Bose,
Secretary.

[FR Doc. 2021-22962 Filed 10-20-21; 8:45 am]

BILLING CODE 6717-01-P